DEPARTMENT OF THE INTERIOR

Fish and Wildlife Service

RIN 1018-AI95

DEPARTMENT OF COMMERCE

National Oceanic and Atmospheric Administration

50 CFR Part 402

[ID. 061804C]

RIN 0648-AQ69

Joint Counterpart Endangered Species Act Section 7 Consultation Regulations

AGENCIES: Fish and Wildlife Service, Interior; and National Marine Fisheries Service, National Oceanic and Atmospheric Administration, Commerce.

ACTION: Proposed rule; availability of environmental assessment; opening of comment period.

SUMMARY: We, the U.S. Fish and Wildlife Service (FWS) and the National Oceanic and Atmospheric Administration's National Marine Fisheries Service (NOAA Fisheries), (jointly, the Services), announce the availability of the environmental assessment for the Interagency Consultation on Regulatory Actions Under the Federal Insecticide, Fungicide, and Rodenticide Act (FIFRA) Counterpart Regulations, and the opening of a comment period on the environmental assessment. The Services are evaluating the environmental effects of establishing counterpart regulations pursuant to Section 7 of the Endangered Species Act of 1973, as amended (ESA). The proposed counterpart regulations were published in the Federal Register on January 30, 2004 (69 FR 4465) after coordination with the U.S. Environmental Protection Agency (EPA) and the U.S. Department of Agriculture.

We are opening a comment period to allow all interested parties to comment on the environmental assessment. Comments should be directed to the adequacy of the environmental assessment, and should not address issues related to the proposed rule itself. Comments previously submitted on the proposed rule need not be resubmitted as they will be incorporated into the public record and will be fully considered in the final rule.

DATES: Comments on this environmental assessment must be received by July 23, 2004, to be considered in the final decision.

ADDRESSES: You may submit comments by any of the following methods:

• E-mail: PesticideESARegulations@fws.gov. Include in the subject line the following identifier: RIN 1018-AI95; RIN 0648-AQ69. Please also include Attn: “1018-AI95” and your name and return address in your Internet message.

• Mail: Assistant Director for Endangered Species, U.S. Fish and Wildlife Service, 4401 North Fairfax Drive, Room 420, Arlington, Virginia 22203; or Chief of the Endangered Species Division, Office of Protected Resources, National Marine Fisheries Service, 1315 East-West Highway, Silver Spring, Maryland 20910.

• Federal e-rulemaking Portal: http:www.regulations.gov.

• Fax: Gary Frazer, FWS, 703/358-2229; or Phil Williams, NOAA Fisheries, 301/713-0376.

The FWS has agreed to take responsibility for receipt of public comments and will share all comments it receives with NOAA Fisheries and EPA. Comments and materials received in conjunction with this environmental assessment will be available for inspection, by appointment, during normal business hours at the above FWS address.

Electronic copies of this environmental assessment may be obtained from the FWS World Wide Web site at: http://endangered.fws.gov/consultations/pesticides/index.html. Written copies of this environmental assessment may be obtained from the Assistant Director for Endangered Species, U.S. Fish and Wildlife Service, 4401 North Fairfax Drive, Room 420, Arlington, Virginia 22203.

FOR FURTHER INFORMATION CONTACT: Gary Frazer, Assistant Director for Endangered Species, at the above FWS address (Telephone 703/358-2171, Facsimile 703/358-2229) or Phil Williams, Chief, Endangered Species Division, NOAA Fisheries, 1315 East-West Highway, Silver Spring, MD 20910 (301/713-1401; facsimile 301/713-0376).

SUPPLEMENTARY INFORMATION:

Background

Counterpart regulations, as generally described at 50 CFR 402.04, provide an optional alternative to the existing section 7 consultation process described in 50 CFR part 402, subparts A and B. Counterpart regulations complement the general consultation regulations in part 402 by allowing individual Federal agencies to “fine tune” the general consultation framework to reflect their particular program responsibilities and obligations. The proposed counterpart regulations published in the Federal Register on January 30, 2004 (69 FR 4465), would establish new methods of interagency coordination between EPA and the Services and create two new, optional, alternative approaches for EPA to fulfill its obligations to ensure that its actions under FIFRA are not likely to jeopardize the continued existence of listed species or destroy or adversely modify critical habitat.

We considered two alternatives, as presented in the environmental assessment. Finalizing the proposed counterpart regulation is the preferred alternative. Adopting this preferred alternative would eliminate the requirement for EPA to obtain written concurrences from the Services whenever EPA makes a “not likely to adversely affect” determination (for listed species or critical habitats) for any FIFRA action. This preferred alternative would also result in a new alternative approach to formal consultations whenever EPA makes a likely to adversely affect determination (for listed species or critical habitats) for any FIFRA action. The “no action” alternative would leave the current section 7 consultation process in place.

Authority: The authority for this action is the Endangered Species Act of 1973, as amended (16 U.S.C. 1531 et seq.).

Dated: June 24, 2004.
Craig Manson,
Assistant Secretary for Fish and Wildlife and Parks.
John H. Dunnigan,
Acting Assistant Administrator for Fisheries, National Marine Fisheries Service.

[FR Doc. 04-15051 Filed 7-1-04; 8:45 am]

BILLING CODE 3510-22-P; 4310-55-P